NATIONAL ARCHIVES AND RECORDS ADMINISTRATION

[NARA-2014-050]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before September 25, 2014. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

FAX: 301-837-3698.

Requesters must cite the control number, which appears in parentheses after the name of the agency which submitted the schedule, and must provide a mailing address. Those who desire appraisal reports should so indicate in their request.

FOR FURTHER INFORMATION CONTACT: Margaret Hawkins, Director, Records Management Services (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Defense, Office of the Secretary of Defense (DAA-0220-2013-0001, 5 items, 2 temporary items). Records related to Department of Defense commemorative programs including administrative files and Web site administrative files. Proposed for permanent retention are program files including reports, meeting minutes, newsletters, and related records; program Web site content files of unique electronic documents; and photographs, videos, and films.

2. Department of Defense, Office of the Secretary of Defense (DAA-0330-2013-0003, 1 item, 1 temporary item). Master files of an electronic information system containing information on participants in studies sponsored by the Defense Security Cooperation Agency.

3. Department of Energy, Agency-wide (DAA-0434-2014-0002, 2 items, 2 temporary items). Records related to administration of the Family Medical Leave Act.

4. Department of Health and Human Services, Office of the Inspector General (DAA-0468-2013-0012, 4 items, 3 temporary items). Records include evaluation reports, working papers, and fraud investigation program files. Proposed for permanent retention are significant final evaluation reports.

5. Department of the Navy, Naval Nuclear Propulsion Program (DAA-0594-2014-0001, 2 items, 2 temporary items). General correspondence.

6. Department of the Navy, United States Marine Corps (DAA-0127-2013-0018, 1 item, 1 temporary item). Master files of an electronic information system used to manage and track change of station assignments.

7. Department of the Treasury, Agency-wide (DAA-0056-2013-0001, 2 items, 2 temporary items). Agreements, reports, and other records relating to interagency agreements that permit computerized comparisons of automated data.

8. Administrative Office of the United States Courts, Agency-wide (DAA-0116-2014-0002, 1 item, 1 temporary item). Working papers and convenience copies of subject files.

9. Library of Congress, Agency-wide (DAA-0297-2014-0010, 23 items, 21 temporary items). Records related to acquisition of materials, processing and preservation of items and collections, registration of readers, and the handling of reference and loan requests. Proposed for permanent retention are records of research products and final reports of preservation research and testing.

10. Library of Congress, Office of General Counsel (DAA-0297-2014-0015, 16 items, 11 temporary items). Records include proposed legislation and regulations files, background materials to issued regulations, financial disclosure reporting files, and background papers and working files. Proposed for permanent retention are significant legal opinions, enacted legislation files, significant litigation case files, and Trust Fund Board records.

11. Library of Congress, Office of the Inspector General (DAA-0297-2014-0016, 6 items, 3 temporary items). Records include annual audit plan files, background materials for audits, and routine investigative case files. Proposed for permanent retention are semiannual reports to Congress, final audit reports, and significant investigative case files.

12. Securities and Exchange Commission, Agency-wide (DAA-0266-2014-0002, 3 items, 2 temporary items). Records include division- and office-level strategic plans and related work products. Proposed for permanent retention are Commission-level strategic plans.

13. Securities and Exchange Commission, Agency-wide (DAA-0266-2014-0003, 2 items, 1 temporary item). Records consist of background materials and correspondence used to develop or modify agency organizational structure. Proposed for permanent retention are organizational records.

14. Securities and Exchange Commission, Division of Corporation Finance (DAA-0266-2014-0007, 1 item, 1 temporary item). Master files of an electronic information system used to track filing review activities.

Dated: August 19, 2014.
Paul M. Wester, Jr.,
Chief Records Officer for the U.S. Government.

[FR Doc. 2014-20284 Filed 8-25-14; 8:45 am]

BILLING CODE 7515-01-P